INTERNATIONAL TRADE COMMISSION

[Investigation No. 337-TA-706]

In the Matter of Certain Wireless Communications System Server Software, Wireless Handheld Devices and Battery Packs: Notice of Commission Determination Not To Review An Initial Determination Terminating the Investigation In Its Entirety On the Basis of A Settlement Agreement; Termination of the Investigation

AGENCY: U.S. International Trade Commission.

ACTION: Notice.

SUMMARY: Notice is hereby given that the U.S. International Trade Commission has determined not to review an initial determination (“ID”) (Order No. 13) of the presiding administrative law judge (“ALJ”) terminating the above-captioned investigation on the basis of a settlement agreement.

FOR FURTHER INFORMATION CONTACT: Jia Chen, Esq., Office of the General Counsel, U.S. International Trade Commission, 500 E Street, SW., Washington, DC 20436, telephone (202) 708-4737. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on February 24, 2010, based on a complaint filed by Motorola, Inc. (“Motorola”) of Schaumburg, Illinois. 75 FR 8401 (Feb. 24, 2010). The complainant named the following respondents: Research in Motion Limited and Research in Motion Corporation (collectively “RIM”). The complaint alleges violations of section 337 of the Tariff Act of 1930, 19 U.S.C. 1337, based upon the importation into the United States, the sale for importation, and the sale within the United States after importation of certain wireless communications system server software, wireless handheld devices and battery packs by reason of infringement of certain claims of U.S. Patent Nos. 5,319,712; 5,359,317; 5,569,550; 6,232,970; and 6,272,333.

On June 17, 2010, Motorola and RIM filed a joint motion before the ALJ to terminate the investigation on the basis of a settlement agreement. A copy of their settlement agreement is attached to the joint motion. On June 24, 2010, the Commission investigative attorney (“IA”) filed a response supporting the parties' motion. On June 29, 2010, the ALJ issued the subject ID granting the joint motion to terminate. No petitions for review were filed.

The Commission has determined not to review the ID. The investigation is terminated.

The authority for the Commission's determination is contained in section 337 of the Tariff Act of 1930, as amended (19 U.S.C. 1337), and in section 210.42(h) of the Commission's Rules of Practice and Procedure (19 CFR 210.42(h)).

By order of the Commission.
Issued: July 20, 2010.
William R. Bishop,
Acting Secretary to the Commission.

[FR Doc. 2010-18048 Filed 7-22-10; 8:45 am]

BILLING CODE P